DEPARTMENT OF ENERGY

Federal Energy Regulatory Commission

Combined Notice of Filings No. 1

October 8, 2010.

Take notice that the Commission has received the following Natural Gas Pipeline Rate and Refund Report filings:

Docket Numbers: RP11-37-000.

Applicants: PPL EnergyPlus, LLC, PPL Generation, LLC, Harbour Gen Holdings, LLC.

Description: Request of PPL Generation, LLC, PPL EnergyPlus, LLC, and Harbor Gen Holdings, LLC for Temporary Waiver, Expedited Consideration, and Shortened Notice Period.

Filed Date: 10/05/2010.

Accession Number: 20101005-5151.

Comment Date: 5 p.m. Eastern Time on Friday, October 15, 2010.

Docket Numbers: RP11-38-000.

Applicants: Gulf South Pipeline Company, LP.

Description: Gulf South Pipeline Company, LP submits tariff filing per 154.204: Sequent 10-6-10 to be effective 10/1/2010.

Filed Date: 10/06/2010

Accession Number: 20101006-5078.

Comment Date: 5 p.m. Eastern Time on Monday, October 18, 2010.

Docket Numbers: RP11-39-000.

Applicants: Kinder Morgan Interstate Gas Transmission LLC.

Description: Kinder Morgan Interstate Gas Transmission LLC submits tariff filing per 154.204: Negotiated Rate 2010-09-30 Aventine NC to be effective 10/15/2010.

Filed Date: 10/06/2010.

Accession Number: 20101006-5080.

Comment Date: 5 p.m. Eastern Time on Monday, October 18, 2010.

Docket Numbers: RP11-40-000.

Applicants: Northern Natural Gas Company.

Description: Northern Natural Gas Company files a Petition for a Limited Waiver of Northern's FERC Gas Tariff in order to allow Northern to resolve prior period imbalance trading errors with Northern States Power Company.

Filed Date: 10/06/2010.

Accession Number: 20101006-5122.

Comment Date: 5 p.m. Eastern Time on Monday, October 18, 2010.

Docket Numbers: RP11-41-000.

Applicants: Texas Eastern Transmission, LP.

Description: Texas Eastern Transmission, LP submits tariff filing per 154.204: Negotiated Rate—PSEG ERT to be effective 11/1/2010.

Filed Date: 10/07/2010.

Accession Number: 20101007-5007.

Comment Date: 5 p.m. Eastern Time on Tuesday, October 19, 2010.

Docket Numbers: RP11-42-000.

Applicants: Steuben Gas Storage Company.

Description: Steuben Gas Storage Company submits tariff filing per 154.602: Central New York Oil and Gas FERC Gas Tariff 1st Revise Volume 1 Tariff Cancellation to be effective 10/7/2010.

Filed Date: 10/07/2010.

Accession Number: 20101007-5077.

Comment Date: 5 p.m. Eastern Time on Tuesday, October 19, 2010.

Docket Numbers: RP11-43-000.

Applicants: Central New York Oil And Gas, LLC.

Description: Central New York Oil And Gas, LLC submits tariff filing per 154.203: Central New York Oil and Gas FERC Gas Tariff 1st Revise Volume 1 to be effective 10/7/2010.

Filed Date: 10/07/2010.

Accession Number: 20101007-5105.

Comment Date: 5 p.m. Eastern Time on Tuesday, October 19, 2010.

Docket Numbers: RP11-44-000.

Applicants: Kinder Morgan Interstate Gas Transmission LLC.

Description: Kinder Morgan Interstate Gas Transmission LLC submits tariff filing per 154.204: Negotiated Rate 10-07-10 Mieco to be effective 10/8/2010.

Filed Date: 10/07/2010.

Accession Number: 20101007-5126.

Comment Date: 5 p.m. Eastern Time on Tuesday, October 19, 2010.

Docket Numbers: RP11-45-000.

Applicants: Columbia Gulf Transmission Company.

Description: Columbia Gulf Transmission Company submits tariff filing per 154.204: Evergreen Non-Conforming 10.8.10 to be effective 11/7/2010.

Filed Date: 10/07/2010.

Accession Number: 20101007-5129.

Comment Date: 5 p.m. Eastern Time on Tuesday, October 19, 2010.

Docket Numbers: RP11-46-000.

Applicants: Columbia Gas Transmission, LLC.

Description: Columbia Gas Transmission, LLC submits tariff filing per 154.204: Evergreen Non-Conforming 10.7.10 to be effective 11/7/2010.

Filed Date: 10/07/2010.

Accession Number: 20101007-5134.

Comment Date: 5 p.m. Eastern Time on Tuesday, October 19, 2010.

Docket Numbers: RP11-47-000.

Applicants: East Tennessee Natural Gas, LLC.

Description: East Tennessee Natural Gas, LLC submits tariff filing per 154.204: Form of Service Agreements Modification to be effective 11/8/2010.

Filed Date: 10/08/2010.

Accession Number: 20101008-5029.

Comment Date: 5 p.m. Eastern Time on Wednesday, October 20, 2010.

Docket Numbers: RP11-48-000.

Applicants: Egan Hub Storage, LLC.

Description: Egan Hub Storage, LLC submits tariff filing per 154.204: Form of Service Agreements Modification to be effective 11/8/2010.

Filed Date: 10/08/2010.

Accession Number: 20101008-5030.

Comment Date: 5 p.m. Eastern Time on Wednesday, October 20, 2010.

Docket Numbers: RP11-49-000.

Applicants: Saltville Gas Storage Company L.L.C.

Description: Saltville Gas Storage Company L.L.C. submits tariff filing per 154.204: Form of Service Agreements Modification to be effective 11/8/2010.

Filed Date: 10/08/2010.

Accession Number: 20101008-5032.

Comment Date: 5 p.m. Eastern Time on Wednesday, October 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-26043 Filed 10-14-10; 8:45 am]

BILLING CODE 6717-01-P